SMALL BUSINESS ADMINISTRATION

[Disaster Declaration #16139 and #16140; SOUTH DAKOTA Disaster Number SD-00095]

Presidential Declaration Amendment of a Major Disaster for Public Assistance Only for the State of South Dakota

AGENCY: U.S. Small Business Administration.

ACTION: Amendment 1.

SUMMARY: This is an amendment of the Presidential declaration of a major disaster for Public Assistance Only for the State of South Dakota (FEMA-4463-DR), dated 09/23/2019.

Incident: Severe Storms and Flooding.

Incident Period: 05/21/2019 through 06/07/2019.

DATES: Issued on 11/20/2019.

Physical Loan Application Deadline Date: 11/22/2019.

Economic Injury (EIDL) Loan Application Deadline Date: 06/23/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of SOUTH DAKOTA, dated 09/23/2019, is hereby amended to re-establish the incident period for this disaster as beginning 05/21/2019 and continuing through 06/07/2019.

All other information in the original declaration remains unchanged.

(Catalog of Federal Domestic Assistance Number 59008)

Cynthia Pitts,
Acting Associate Administrator for Disaster Assistance.

[FR Doc. 2019-25855 Filed 11-27-19; 8:45 am]

BILLING CODE 8026-013-P